SMALL BUSINESS ADMINISTRATION

[Amendment #1]

Declaration of Disaster #3318; State of Mississippi

In accordance with a notice received from the Federal Emergency Management Agency, dated February 27, 2001, the above-numbered Declaration is hereby amended to include Alcorn, Attala, Bolivar, Calhoun, Carroll, Chickasaw, Choctaw, Clay, Coahoma, Grenada, Humphreys, Itawamba, Lafayette, Lee, Leflore, Madison, Monroe, Noxubee, Panola, Pontotoc, Prentiss, Quitman, Sunflower, Tallahatchie, Tippah, Tishomingo, Union, Washington, Webster, Winston, Yalobusha and Yazoo counties in the State of Mississippi as disaster areas due to damages caused by severe storms and tornadoes. This notice also amends the incident period for this disaster as beginning on February 16, 2001 and continuing.

In addition, applications for economic injury loans from small businesses located in the following contiguous counties may be filed until the specified date at the previously designated location: Benton, Hinds, Issaquena, Kemper, Leake, Marshall, Montgomery, Neshoba, Rankin, Scott, Sharkey, Tate, Tunica and Warren in the State of Mississippi; Colbert, Franklin, Lauderdale, Marion, and Sumter Counties in the State of Alabama; Chicot, Desha and Phillips Counties in the State of Arkansas; East Carroll in the State of Louisiana; Hardeman, Hardin and McNairy Counties in the State of Tennessee. Any counties contiguous to the above named primary counties and not listed here have been previously declared.

The economic injury disaster numbers are: 9K8800 for the State of Arkansas; 9K8900 for the State of Louisiana; and 9K9000 for the State of Tennessee.

All other information remains the same, i.e., the deadline for filing applications for physical damage is April 24, 2001 and for economic injury the deadline is November 23, 2001.

(Catalog of Federal Domestic Assistance Program Nos. 59002 and 59008.)

Dated: March 1, 2001.
James E. Rivera,
Acting Associate Administrator for Disaster Assistance.

[FR Doc. 01-5754 Filed 3-7-01; 8:45 am]

BILLING CODE 8025-01-U